DEPARTMENT OF TRANSPORTATION

Federal Aviation Administration

14 CFR Part 73

[Docket No. FAA-2003-15411 Airspace Docket No. 02-ANM-15]

RIN 2120-AA66

Proposed Establishment of Restricted Area 4601 A, B, C, and D; Bearpaw, MT

AGENCY: Federal Aviation Administration (FAA), DOT.

ACTION: Proposed rule; withdrawal.

SUMMARY: This action withdraws a notice proposing to establish four new restricted areas (R-4601 A, B, C, and D) in the vicinity of Bearpaw, MT, as part of a Montana Air National Guard (MANG) training initiative (68 FR 6433; November 17, 2003). This action is being taken because the MANG has been unable to gain control of the surface area needed for an air-to-ground training range.

FOR FURTHER INFORMATION CONTACT: Ken McElroy, Airspace and Rules, Office of System Operations and Safety, ATO-R, Federal Aviation Administration, 800 Independence Avenue, SW., Washington, DC 20591; telephone: (202) 267-8783.

SUPPLEMENTARY INFORMATION: On November 17, 2003, an NPRM was published in the Federal Register proposing to amend Title 14 Code of Federal Regulations (14 CFR) part 73 (part 73) to establish R-4601 A, B, C, and D, in the vicinity of Bearpaw, MT, as part of a MANG training initiative (68 FR 64833). The MANG has been unable to gain control of the surface area needed for an air-to-ground training range.

List of Subjects in 14 CFR Part 73

Airspace, Navigation (air).

Withdrawal of Proposed Rule

In consideration of the foregoing, the NPRM, FAA Docket No. FAA-2003-15411/Airspace Docket No. 02-ANM-15, as published in the Federal Register on November 17, 2003 (68 FR 64833), is hereby withdrawn.

Authority: 49 U.S.C. 106(g), 40103, 40113, 40120; E.O. 10854, 24 FR 9565, 3 CFR, 1959-1963 Comp., p. 389.

* * * * *

Issued in Washington, DC, July 23, 2004.
Reginald C. Matthews,
Manager, Airspace and Rules.

[FR Doc. 04-17406 Filed 7-30-04; 8:45 am]

BILLING CODE 4910-13-P